DEPARTMENT OF DEFENSE

Department of the Army

Availability of Non-Exclusive, Exclusive License or Partially Exclusive Licensing of U.S. Patent Application Concerning Method for Forming a Parachute and a Parachute Formed Thereby

AGENCY: U.S. Army Soldier and Biological Chemical Command (SBCCOM), DoD.

ACTION: Notice.

SUMMARY: In accordance with 37 CFR part 404.6, announcement is made of the availability for licensing of U.S. Patent No. US 6,328,262 B1 entitled “Method for Forming a Parachute and a Parachute Formed Thereby” issued December 11, 2001. This patent has been assigned to the United States Government as represented by the Secretary of the Army.

FOR FURTHER INFORMATION CONTACT: Mr. Robert Rosenkrans at U.S. Army Soldier and Biological Chemical Command, Kansas Street, Natick, MA 01760, Phone; (508) 233-4928 of e-mail: Robert.Rosenkrans@natick.army.mil.

SUPPLEMENTARY INFORMATION: Any licenses granted shall comply with 35 U.S.C. 209 and 37 CFR part 404. The following Patent Number, Title and Issue date is provided:

Patent Number: US 6,328,262 B1.

Title: Method for Forming a Parachute and a Parachute Formed Thereby.

Issue Date: December 11, 2001.

Luz D. Ortiz,
Army Federal Register Liaison Officer.

[FR Doc. 02-444 Filed 1-7-02; 8:45 am]

BILLING CODE 3710-08-M